DEPARTMENT OF LABOR

Employment and Training Administration

[TA-W-74,593]

Whirlpool Corporation, Including On-Site Leased Workers From Career Solutions TEC Staffing and Andrews International, Fort Smith, AR; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2010, applicable to workers of Whirlpool Corporation, including on-site leased workers from Career Solutions TEC Staffing, Fort Smith, Arkansas. The notice was published in the Federal Register on October 25, 2010 (75 FR 65520).

At the request of the State agency, the Department reviewed the certification for workers of the subject firm. The workers are engaged in the production of refrigerators and trash compactors.

The company reports that workers leased from Andrews International were employed on-site at the Fort Smith, Arkansas location of Whirlpool Corporation. The Department has determined that these workers were sufficiently under the control of Whirlpool Corporation to be considered leased workers.

Based on these findings, the Department is amending this certification to include workers leased from Andrews International working on-site at the Fort Smith, Arkansas location of Whirlpool Corporation.

The amended notice applicable to TA-W-74,593 is hereby issued as follows:

All workers of Whirlpool Corporation, including on-site leased workers from Career Solutions TEC Staffing and Andrews International, Fort Smith, Arkansas, who became totally or partially separated from employment on or after October 2, 2010, through October 6, 2012, and all workers in the group threatened with total or partial separation from employment on the date of certification through two years from the date of certification, are eligible to apply for adjustment assistance under Chapter 2 of Title II of the Trade Act of 1974, as amended.

Signed at Washington, DC, this 6th day of December 2010.
Michael W. Jaffe,
Certifying Officer, Division of Trade Adjustment Assistance.

[FR Doc. 2010-31167 Filed 12-10-10; 8:45 am]

BILLING CODE 4510-FN-P